ENVIRONMENTAL PROTECTION AGENCY

[EPA-HQ-OPP-2022-0337; FRL-10497-02-OCSPP]

Pesticides; Evaluating the Efficacy of Antimicrobial Test Substances on Porous Surfaces in Non-Residential Settings; Interim Guidance and Methods; Extension of Comment Period

AGENCY: Environmental Protection Agency (EPA).

ACTION: Notice; extension of comment period.

SUMMARY: In the Federal Register of December 21, 2022, EPA announced the availability of and solicited public comment on interim guidance and methods for adding efficacy claims to antimicrobial products for use on porous materials, including fabrics, textiles, and upholstered items in non-residential settings. This document extends the comment period for 30 days from January 20, 2023, to February 19, 2023.

DATES: The comment period for the notice that published on December 21, 2022, at 87 FR 78105, is extended. Comments must be received on or before February 19, 2023.

ADDRESSES: Submit your comments, identified by ID number EPA-HQ-OPP-2022-0337, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets/epa-dockets.

FOR FURTHER INFORMATION CONTACT: Marc Carpenter, Microbiology Laboratory Branch (7503M), Biological and Economic Analysis Division, Office of Pesticide Programs, Environmental Protection Agency, Environmental Science Center, 701 Mapes Road, Ft. Meade, MD 20755-5350; telephone number: (410) 305-2927; email address: carpenter.marc@epa.gov.

SUPPLEMENTARY INFORMATION: This document extends the public comment period established in the Federal Register document of December 21, 2022 (87 FR 78105) (FRL-10497-01-OCSPP) for 30 days, from January 20, 2023, to February 19, 2023. In that document, EPA announced the availability of and solicited public comment on interim guidance and methods for adding efficacy claims to antimicrobial products for use on porous materials, including fabrics, textiles, and upholstered items in non-residential settings. More information on EPA's interim guidance and solicitation of comment can be found in the Federal Register of December 21, 2022.

[Optional, include a statement about why we are extending the comments. For example:

EPA received requests to extend the comment period and believes it is appropriate to do so in order to give stakeholders additional time to review the interim guidance and methods, and prepare comments.

To submit comments, or access the materials in the docket, please follow the detailed instructions provided under ADDRESSES. If you have questions, consult the person listed under FOR FURTHER INFORMATION CONTACT.

Dated: January 11, 2023.
Michal Freedhoff,
Assistant Administrator, Office of Chemical Safety and Pollution Prevention.

[FR Doc. 2023-00851 Filed 1-17-23; 8:45 am]

BILLING CODE 6560-50-P